DEPARTMENT OF THE INTERIOR

National Park Service

Draft General Management Plan; Middle and South Forks Kings River Wild and Scenic River Comprehensive Management Plan; North Fork Kern River Wild and Scenic River Comprehensive Management Plan; Sequoia and Kings Canyon National Parks; Tulare and Fresno Counties, CA; Notice of Availability of Draft Environmental Impact Statement

SUMMARY: Pursuant to § 102(2)(C) of the National Environmental Policy Act of 1969 (Pub. L. 91-190, as amended), and the Council on Environmental Quality Regulations (40 CFR part 1500-1508), the National Park Service (NPS), Department of the Interior, has prepared a Draft General Management Plan (GMP) and Comprehensive River Management Plan/Environmental Impact Statement (EIS) for the Middle and South Forks Kings River and the North Fork Kern River and for Sequoia and Kings Canyon National Parks located in California. The purpose and need for the plan is to establish a park vision for the next 15-20 years, provide direction for the management of wild and scenic rivers, replace an outdated master plan, guide management of cultural resources, address unresolved issues in specific areas, resolve special use permit cabin issues for the Mineral King area; and address the changing context of the parks within the regional ecosystem. This document describes and analyzes five alternatives which respond to both NPS planning requirements and to the issues identified during the public scoping process.

The No-Action alternative would continue current management direction, and it is the baseline for comparing the other alternatives (it was originally Alternative B when the alternatives were first presented to the public in the winter of 2000). The Preferred Alternative would accommodate sustainable growth and visitor enjoyment, protect ecosystem diversity, and preserve basic character while adapting to changing user groups (this is also identified in the EIS as “environmentally preferred”). Alternative A would emphasize natural ecosystems and biodiversity, with reduced use and development; Alternative C would preserve the parks' traditional character and retain the feel of yesteryear, with guided growth; and Alternative D would preserve the basic character and adapt to changing user groups. This document also includes a comprehensive river management plan for the portions of the Middle and South Forks of the Kings River and the North Fork of the Kern River, which have been designated by Congress as components of the national wild and scenic rivers system. The purpose of the river management plan is to provide direction and overall guidance on the management of lands and uses within the river corridors. The environmental consequences of all the alternatives, and mitigation strategies, are identified and analyzed in the EIS.

Scoping: Nine scoping meetings were held, seven planning newsletters issued; alternatives planning workshops were held in seven cities; and the resulting mailing list consists of over 3700 entries. The park has held regular communication with the cooperating association and concessioners authorized to operate in the parks. Meetings and contacts have occurred with special use permittees (Southern California Edison, Mineral King District Association, and the Boy Scouts of America); private landowners (Wilsonia District Association, Silver City, Oriole Lake); and other stakeholders (Backcountry Horsemen, High Sierra Hikers, Friends of the River, National Parks Conservation Association, Sierra Club, The National Park Foundation, Three Rivers community, Clean Air groups, Mineral King Advocates, Mineral King Preservation Society, Tulare Country Historical Society, California Department of Transportation, Tulare County, Fresno County, Save-the-Redwoods League, local and regional business groups, educational institutions and the Sequoia Federal managers group).

Accompanying the project introduction in Newsletter 1—summer 1997/reprinted winter 1998, public meetings were held in six locations in the parks during the summer of 1997; and in Three Rivers, Visalia and Fresno/Clovis in the winter of 1998. Comments and ideas were recorded from all meetings. Newsletter 2—June 1998 summarized public scoping, desired visions for the park, issues, type of decisions to be made, and provided background information about the Mineral King area. Newsletter 3—March 1999, described a transportation study conducted in 1997-98 and a 1998 visitor satisfaction survey. It also summarized the finding of a 1998 study to determine the eligibility of Mineral King Road corridor for the National Register of Historic Places as a cultural landscape. Newsletter 4—spring 1999, a 24-page workbook with maps to prepare for alternatives workshops, consisted of issue discussion and asked tradeoff questions; a total of 745 responses were received. Alternatives workshops to ensure that public ideas were incorporated into the range of alternatives to be assessed were attended by about five hundred people. These April 1999 workshops were held in San Francisco, Sacramento, Bishop, Los Angeles, Three Rivers, Visalia and Fresno/Clovis. In the summer of 1999 fourteen Native American tribal governments or entities were consulted. Ideas from scoping, public workshops and consultations guided the development of the range of alternatives, and suggested wording was used for alternative titles and descriptions. Newsletter 5—winter 2000, described a range of four alternatives that would be assessed in the draft environmental impact statement; included a pullout of alternatives maps; and presented draft parkwide zoning prescriptions. Newsletter 6—December 2000, an update, described establishment of Giant Sequoia National Monument; announced the eligibility of the Mineral King Road Cultural Landscape District; announced inclusion of the Wild and Scenic River Plan into the GMP process; announced that the plan would be delayed until a new superintendent was in place; and answered public questions about wilderness designation, and stated that a summary would be sent to people on the mailing list. Newsletter 7—spring 2002 was a brief update announcing the new Superintendent and the addition of the 1540-acre Dillonwood Grove of giant sequoias to the park; asked about document format; and described the process known as “choosing by advantages” that was used to develop a preferred alternative. The process combined elements of all the alternatives to maximize benefits to the parks and cost-effectiveness. Newsletter 7, by asking what document format (CDs or printed copy) was desired, revised the Newsletter 6 approach that would send a printed summary to everyone. The newsletter stated if NPS was not notified a CD would be sent; approximately one hundred people specifically requested CDs and less than fifty requested printed copies.

Proposed Plan and Alternatives: The draft EIS/GMP/Comprehensive River Management Plan includes four action alternatives and a no-action alternative which continues current management. The Comprehensive River Management Plan and approved plans would be common to every alternative.

The No-Action Alternative (Continue Current Management): The parks are managed as they are now in accordance with approved plans (such as development concept plans, and the 1996 Giant Forest Interim Management Plan); negative resource impacts and visitor demands are responded to by relocating development, reducing some uses, or confining new developed areas. Visitor uses are reassessed and revised as new information about natural and cultural resource impacts and visitor needs emerges. Current facilities are inadequate for park needs and visitor use levels, and crowding is common in some areas.

The Preferred Alternative: The parks' appeal is broadened to be more relevant to diverse user groups. Increased day use is accommodated, and overnight visitation is retained. The integrity of park resources is paramount. Stronger educational and outreach programs provide enjoyment and instill park conservation values. The basic character of park activities and the rustic architecture of facilities are retained so that the parks remain strikingly different from surrounding areas. Park administrative facilities are redesigned and may be relocated outside the parks. Park facilities accommodate sustainable growth. Stock use continues with appropriate management and monitoring.

Alternative A: Emphasize Natural Ecosystems and Biodiversity; Reduce Use and Development: The parks are natural resource preserves; they are primarily valued because they contain publicly owned resources that will be conserved for the future. Levels of use are lower than at present, and visitor experiences are more directly connected to natural resources and provide more solitude. The parks strongly contrast with surrounding lands that are under increasing pressure for use and development. Park managers aggressively cooperate with the managers of surrounding lands to enhance range-wide biodiversity.

Alternative B: Preserve Traditional Character and Retain the Feel of Yesteryear; Guide Growth: The parks present a traditional park character and a feeling of yesteryear, where experiences are more reminiscent of how visitors used the parks in the past. This is conveyed through rustic architecture and lower impact recreational activities (such as sightseeing and hiking) that were popular from the 1920s to the 1960s, and providing an experience that is strikingly different from that in an urban setting. Redesigned developed areas accommodate limited growth; overnight stays are encouraged. Negative impacts on natural resources are controlled, so as to maintain or improve resource conditions.

Alternative C: Preserve Basic Character and Adapt to Changing User Groups; Guide Growth: The parks preserve some of their traditional character and rustic architecture, but diverse new user groups and uses are encouraged. Day use is more common. Facilities are expanded to meet users' needs, while frequent interpretive programs are offered to educate, entertain, and instill a sense of park conservation values. Negative impacts on natural resources are controlled or mitigated, so as to maintain or improve resource conditions.

Public Review and Comment: The draft EIS/GMP is now available for public review. Requests for the document (by those not presently on the mailing list) should be addressed to: GMP, Sequoia and Kings Canyon National Parks, 47050 Generals Hwy., Three Rivers, CA 93271-9651, by telephone at (559) 565-3101, or by e-mail at seki_superintendent@nps.gov. The document may also be reviewed at park area libraries, or obtained electronically via the “Management Docs” link from the parks' Web site http://www.nps.gov/seki or at the NPS planning Web site http://planning.den.nps.gov/, selecting plans, and choosing “What's New” under the listing for Sequoia and Kings Canyon National Parks. Printed copies and CDs will be sent to agencies and organizations listed as recipients in the Consultation and Coordination section of the document.

Persons and organizations wishing to comment on the proposed General Management Plan must do so by writing to: GMP team leader Susan Spain, NPS Denver Service Center, 12795 W Alameda Parkway, Denver, CO 80225-0287 (or via e-mail to susan_spain@nps.gov); or GMP Coordinator David Graber, Sequoia and Kings Canyon National Parks, 47050 Generals Highway, Three Rivers, CA 93271-9651 (or via e-mail to david_graber@nps.gov). In addition, the parks will conduct public meetings to facilitate review and comment on the draft EIS/GMP; these will be held during the comment period both in the parks, as well as in the following locations: Three Rivers, Visalia, Fresno/Clovis, Sacramento, San Francisco, Los Angeles and Bishop. Confirmed details on meeting locations, dates and times will be posted on the parks' Web site; updates can also be obtained by telephone at (559) 565-3101.

All comments must be postmarked or transmitted not later than 90 days following the date EPA's notice of filing is published in the Federal Register—immediately upon determination of the actual date it will be announced via local and regional news media and posted on the parks' Web site. All comments will become part of the public record. If individuals submitting comments request that their name or address be withheld from public disclosure, the request will be honored to the extent permitted by law. Such requests must be stated prominently at the beginning of the comments. There also may be circumstances wherein the NPS will elect to withhold a respondent's identity as permitted by law. As always, the NPS will make available for public inspection all submissions from organizations or businesses and from persons identifying themselves as representatives or officials of organizations; anonymous comments will not be considered.

Decision: Following the review period for the draft EIS/GMP, all signed comments received will be considered in preparing the final EIS/GMP/Comprehensive River Management Plan. The final document is anticipated to be completed by mid-2005. Its availability will be similarly announced in the Federal Register. As this is a delegated EIS, the official responsible for the final decision is the Regional Director of the NPS Pacific West Region; subsequently the official responsible for implementation will be the Superintendent of Sequoia and Kings Canyon National Parks.

Dated: April 26, 2004.
Jonathan B. Jarvis,
Regional Director, Pacific West Region.

[FR Doc. 04-11166 Filed 5-17-04; 8:45 am]

BILLING CODE 4312-F6-P